DEPARTMENT OF DEFENSE

Department of the Army, Corps of Engineers

Intent To Prepare a Supplemental Draft Environmental Impact Statement for a Proposed Flood Risk Management Project on the Red River of the North in Fargo, ND, and Moorhead, MN

AGENCY: Department of the Army, U.S. Army Corps of Engineers, DoD.

ACTION: Notice of intent.

SUMMARY: The St. Paul District of the U.S. Army Corps of Engineers (St. Paul District) will prepare a Supplement to the Draft Environmental Impact Statement and Feasibility Study (EIS/FS) for a Proposed Fargo-Moorhead Flood Risk Management Project on the Red River of the North in Fargo, ND, and Moorhead, MN (Proposed Fargo-Moorhead Project). On May 5, 2009, the St. Paul District published a notice of intent to prepare a Draft EIS/FS for a Proposed Fargo-Moorhead Project. On June 11, 2010, the St. Paul District published a notice of availability of the Draft EIS/FS. The U.S. Army Corps of Engineers has now decided to prepare a Supplemental Draft EIS/FS to further evaluate impacts of a Proposed Fargo-Moorhead Project and potential measures to mitigate for those impacts. The Supplemental Draft EIS/FS should be available for public review and comment in the spring of 2011.

FOR FURTHER INFORMATION CONTACT: Questions about the proposed action and Supplemental Draft EIS/FS may be directed to: Mr. Terry J. Birkenstock, Chief, Environmental and GIS Branch, 180 Fifth Street East, Suite 700, St. Paul, MN 55101-1678, telephone: (651) 290-5264.

DATES: As described below, additional scoping will not be conducted; however, the St. Paul District will consider comments related to the scope of the Supplemental Draft EIS/FS that are received before January 26, 2011.

SUPPLEMENTARY INFORMATION: Fargo, North Dakota, and Moorhead, Minnesota, are on the west and east banks, respectively, of the Red River of the North approximately 150 miles south of the Canada/United States border. In addition to the Red River, the Wild Rice, Sheyenne, Maple, Rush and Lower Rush Rivers in North Dakota and the Buffalo River in Minnesota also cross the study area.

Subsequent to the publication of the notice of availability of the Draft EIS/FS in June 2010, hydraulic modeling indicated downstream impacts from the Proposed Fargo-Moorhead Project that were greater than those anticipated and presented in the Draft EIS/FS. In addition, public and agency comments on the Draft EIS/FS raised additional issues. The purpose of the Supplemental Draft EIS/FS is to develop and evaluate additional information related to downstream impacts and other issues raised and to evaluate potential alternatives for the Project.

The U.S. Army Corps of Engineers will continue to act as the lead agency for the Supplemental Draft EIS/FS and the cities of Fargo and Moorhead will act as cooperating partners.

Additional scoping meetings will not be held for the Supplemental Draft EIS/FS. A significant volume of comments were received during the public comment period on the Draft EIS/FS regarding potential downstream impacts and proposed alternatives that might serve to mitigate these impacts. These comments, as well as the extensive scoping and partnering accomplished in the course of preparation of the Draft EIS/FS, provide information to determine the appropriate scope for the Supplemental Draft EIS/FS. Further, the St. Paul District will consider comments related to the scope of the Supplemental Draft EIS/FS that are received before January 26, 2011.

Dated: December 15, 2010.
Terry J. Birkenstock,
Chief, Environmental and GIS Branch.

[FR Doc. 2010-32499 Filed 12-23-10; 8:45 am]

BILLING CODE 3720-58-P